DEPARTMENT OF THE INTERIOR

Office of Surface Mining Reclamation and Enforcement

[S1D1S SS08011000 SX066A000 67F 134S180110; S2D2S SS08011000 SX066A00 33F 13xs501520]

Notice To Extend the Public Comment Period on the Draft Environmental Impact Statement for the Four Corners Power Plant and Navajo Mine Energy Project

AGENCY: Office of Surface Mining Reclamation and Enforcement (OSMRE), Interior.

ACTION: Extension of public comment period.

SUMMARY: We are allowing additional time for the public to submit comments on the draft environmental impact statement (DEIS) for the Four Corners Power Plant and Navajo Mine Energy Project. We are extending the end of the comment period from May 27, 2014 to June 27, 2014.

DATES: To ensure consideration in developing the EIS, we must receive your electronic or written comments by the close of the DEIS public comment period on June 27, 2014.

ADDRESSES: Comments may be submitted in writing or by email. At the top of your letter or in the subject line of your email message, please indicate that the comments are “Four Corners-Navajo Mine DEIS Comments.”

• Email comments should be sent to: fcppnavajoenergyeis@osmre.gov.

• Mail/Hand-Delivery/Courier: Written comments should be sent to: Marcelo Calle, OSMRE Western Region, 1999 Broadway, Suite 3320, Denver, Colorado 80202-3050

FOR FURTHER INFORMATION CONTACT: For further information about the Project and/or to have your name added to the mailing list, contact: Marcelo Calle, OSMRE Project Coordinator, at 303-293-5035. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: On March 28, 2014 (79 FR 17569), we published a notice of availability (NOA) for the Four Corners Power Plant and Navajo Mine Energy Project DEIS. The NOA requested public comments on the content of the DEIS. The close of the public comment period for the NOA published on March 28, 2014, was May 27, 2014. In response to requests for an extension of the comment period, we are granting a 31 day extension until June 27, 2014.

The March 28, 2014, NOA listed the locations, dates and times of the public meetings, identified the locations of repositories where the DEIS could be reviewed and provided instructions for submitting comments. To summarize, the DEIS analyzed the impacts for the Navajo Transitional Energy Company Proposed Pinabete Permit and for the Navajo Mine Permit Renewal, both of which are located on the Navajo Reservation in San Juan County, New Mexico. The DEIS also analyzed the impacts for the Arizona Public Service Company Proposed Four Corners Power Plant (FCPP) lease amendment, located on the Navajo Reservation in San Juan County, New Mexico, and associated transmission line rights-of-way renewals for lines located on the Navajo and Hopi Reservations in San Juan County, New Mexico and Navajo, Coconino and Apache Counties in Arizona. In addition, the DEIS analyzed impacts for the Public Service Company of New Mexico transmission line rights-of-way renewal associated with the FCPP and located on the Navajo Reservation in New Mexico.

Availability of Comments

OSMRE will make comments, including name of respondent, address, phone number, email address, or other personal identifying information, available for public review during normal business hours. Comments submitted anonymously will be accepted and considered; however, those who submit anonymous comments may not have standing to appeal the subsequent decision.

Before including your address, phone number, email address, or other personal identifying information in your comment, you should be aware that your entire comment—including your personal identifying information—will be publicly available. While you can ask us in your comment to withhold your personal identifying information from public review, we cannot guarantee that we will be able to do so.

Dated: May 9, 2014.
Joseph G. Pizarchik,
Director.

[FR Doc. 2014-11396 Filed 5-15-14; 8:45 am]

BILLING CODE 4310-05-P